DEPARTMENT OF AGRICULTURE

Forest Service

Umatilla National Forest, Walla Walla Ranger District; Oregon Tollgate Fuels Reduction Project

AGENCY: Forest Service, USDA.

ACTION: Notice of Intent to prepare an environmental impact statement.

SUMMARY: The Forest Service proposes fuels reduction on approximately 4,400 acres within the Upper 204/Tollgate Wildland Urban Interface (WUI) as set forth in the Umatilla County Community Wildfire Protection Plan (CWPP) as amended. This project was planned and will be implemented using Healthy Forest Restoration Act (HFRA) of 2004 authorities.

The Tollgate Fuels Reduction project is located in Umatilla and Union Counties, Oregon and the project planning area encompasses over 46,000 acres. The project planning area is approximately 40 miles south/southwest of Walla Walla, Washington.

The proposed fuels treatments will seek to reduce standing and down fuels, improve area evacuation routes, improve firefighter/public safety and protect local infrastructure. Fuel reduction efforts will be completed through commercial timber harvest (3,050 acres) and non-commercial thinning (1,350 acres). Timber harvest would generally focus on the removal of small diameter trees; however, larger trees may be removed as necessary to meet project objectives. Activities within the Lookingglass Inventoried Roadless Area (IRA) would include ground and ladder fuel reduction through the removal of standing (live and dead) trees and dead and down material. These activities would occur adjacent to private property and FR 64. No activities will occur in the North Fork Umatilla Wilderness or the Walla Walla River Inventoried Roadless Area.

Development and implementation of these actions will be conducted in accordance with the Healthy Forest Restoration Act (HFRA), National Forest Management Act (NFMA), National Environmental Policy Act (NEPA), the Umatilla National Forest Land and Resource Management Plan and all other applicable laws and regulations.

DATES: Comments concerning the scope of the analysis must be received by November 18, 2010. The Draft EIS is expected to be filed with the Environmental Protection Agency (EPA) and be available to the public for review by May 2011. The Final EIS is scheduled to be completed by October 2011.

ADDRESSES: Send written comments to Michael Rassbach, District Ranger, Walla Walla Ranger District, 1415 W. Rose, Walla Walla, WA. Comments may also be sent via e-mail to comments-pacificnorthwest-umatilla-wallawalla@fs.fed.us., or via facsimile to 509-522-6000.

It is important that reviewers provide their comments at such times and in such a way that they are useful to the Agency's preparation of the EIS. Therefore, comments should be provided prior to the close of the comment period and should clearly articulate the reviewer's concerns and contentions.

Comments received in response to this solicitation, including names and addresses of those who comment, will become part of the public record for this proposed action. Comments submitted anonymously will be accepted and considered; however, anonymous comments will not provide the respondent with standing to participate in subsequent administrative objection process or judicial review.

FOR FURTHER INFORMATION CONTACT: Kimpton Cooper, Environmental Coordinator, Walla Walla Ranger District, 1415 W. Rose, Walla Walla, WA 99362. He can be reached by phone at (509) 522-6290 or by e-mail at kmcooper@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Tollgate planning area is situated on a high plateau between the North Fork Umatilla Wilderness and the South Fork Walla Walla River. The Tollgate plateau is surrounded on all sides by very steep and deep canyons. The plateau area falls primarily into fire regime 4, based on species composition, and suggests the occurrence of mixed to high severity fire events with long return intervals. Private lands and in-holdings are adjacent to, and interspersed with National Forest System lands.

The Tollgate WUI is comprised of approximately 368 residences, 43 privately owned cabins under NFS special use permit, 4 NFS campgrounds, 6 trailheads, 1 ski area, 4 snowparks and other FS facilities. The area is one of the heaviest used recreation areas on the entire Umatilla NF. In addition, there are numerous non-recreation uses of the area. Important local and regional infrastructure (fiber optic lines, telephone lines, power transmission lines, and communication equipment) is interspersed throughout the WUI. Oregon State Highway 204 bisects the Tollgate community and provides a major transportation route, linking it to Elgin, OR in the south, and Milton-Freewater/Pendleton, OR in the north. Highway 204 also provides an important commercial shipping route that facilitates the flow of goods and services between Union and Umatilla counties.

Tollgate's geographic positioning, relative to large tracts of remote and inaccessible roadless and wilderness areas, makes for a uniquely positioned community, and is an important contributing factor to the area's overall need for treatment. In many cases, wilderness and roadless areas occur at higher elevations and are well removed, from communities. Tollgate however sits above large tracts of both roadless and wilderness areas. Wildfires can initiate in these remote places, gain intensity, and ultimately emerge onto the plateau.

An accounting of the condition of existing vegetation within the analysis area has shown that these stands are very receptive to the initiation of high severity crown fire. The stands are also likely to sustain high severity crown fire that may emerge from the surrounding wilderness and roadless areas. Field reconnaissance of each prospective unit was performed, and showed that the structure, composition, arrangement, and dynamics of the present vegetation indicate an area highly susceptible to experiencing severe fire events.

A strong need for treatment exists. A community, important infrastructure and a major transportation corridor represent values that are at risk. The area's infrastructure is located above, and in the path of major fire travel routes. The community is situated amongst vegetation that is poised to burn with severity.

It is unlikely that high severity fire events can be stopped from occurring in fire regime 4; however, through the implementation of fuels reduction treatments property, infrastructure, and lives may be more effectively protected. Treatments resulting in modified fuel configurations in strategic locations can lessen the impacts of a major fire event to the people, infrastructure, and travel routes within Tollgate.

The following project objectives were identified based on the intent of the 2004 Healthy Forest Restoration Act, the Umatilla County CWPP, and goals brought forth through public collaborative efforts:

• Lower fire hazard, by reducing overall fuel load and reducing the vertical and horizontal continuity of fuels within the project planning area.

• Improve protection to adjacent private lands and public/private infrastructure from a wildfire event.

• Provide safe egress of local residents and safe ingress/egress for firefighters during wildfire events.

• Effect immediate change in fire behavior within the Tollgate WUI by reducing fuels and creating strategic fuel breaks.

Proposed Action

The Forest Service proposes to conduct fuels reduction activities on approximately 4,400 acres within the Tollgate project planning area. Fuel reduction efforts would be implemented through the use of commercial timber harvest (3,050 acres) and non-commercial thinning (1,350 acres). Fuel reduction prescriptions include crown reduction, dead and down material removal, and ladder fuel reduction.

The project also includes fuel reduction activities in three (3) Riparian Habitat Conservation Areas (RHCAs) of strategic importance. There are treatments proposed along Oregon State Highway 204, designed to improve the defensibility of this important travel corridor. Treatments are also proposed within the Lookingglass Inventoried Roadless Area (IRA). The proposed treatments are targeted on the edge of IRA boundary where it coincides with private inholdings and Forest Road 6400. No actions are proposed within either the North Fork Umatilla Wilderness or Walla Walla River Inventoried Roadless Area.

Responsible Official

Walla Walla District Ranger.

Nature of Decision To Be Made

The responsible official will decide:

(1) Whether fuels reduction activities should occur, and if so, how much, when and where.

(2) What monitoring and mitigation measures should be taken or are needed.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

A public meeting will be held on Thursday, November 4, 2010 at 6 pm. The meeting will be held at the Tollgate Trailfinders Clubhouse located off OR Hwy. 204. The clubhouse is adjacent to the Tollgate store and across from the Tamarack Inn. All interested members of the public are welcome to attend. For more information about this meeting, please contact Kimpton Cooper using the contact information listed above.

It should be noted that HFRA set up a pre-decisional objection process. Individual wishing to have standing to participate in the objection process must submit written comments either at this time (public scoping) or during the comment period for the Draft EIS.

Dated: October 12, 2010.
Michael Rassbach,
District Ranger.

[FR Doc. 2010-26223 Filed 10-18-10; 8:45 am]

BILLING CODE 3410-11-P